DEPARTMENT OF TRANSPORTATION

Office of the Secretary

Aviation Proceedings, Agreements Filed During Week Ending September 28, 2001

The following Agreements were filed with the Department of Transportation under provisions of 49 U.S.C. sections 412 and 414. Answers may be filed within 21 days after the filing of the applications.

Docket Number: OST-2001-10688.

Date Filed: September 24, 2001.

Parties: Members of the International Air Transport Association.

Subject: PTC123 0158 dated 25 September 2001, Mail Vote 146—Resolution 010n, TC123 South Atlantic Special Passenger Amending Resolution from Brazil, Intended effective date: 1 October, 2001.

Andrea M. Jenkins,
Federal Register Liaison.

[FR Doc. 01-25656 Filed 10-11-01; 8:45 am]

BILLING CODE 4910-62-P